SECURITIES AND EXCHANGE COMMISSION

[Release No. 34-65396; File No. SR-MSRB-2011-08]

Self-Regulatory Organizations; Municipal Securities Rulemaking Board; Notice of Withdrawal of Proposed New Rule A-11, on Municipal Advisor Assessments, and New Form A-11-Interim

September 26, 2011.

On July 26, 2011, the Municipal Securities Rulemaking Board (the “MSRB”) filed with the Securities and Exchange Commission (the “Commission”) a proposed rule change pursuant to Section 19(b)(1) of the Securities Exchange Act of 1934 ¹ and Rule 19b-4 thereunder,² consisting of (i) proposed new Rule A-11, on municipal advisor assessments, and (ii) new Form A-11-Interim. Notice of the proposed rule change was published in the Federal Register on August 8, 2011.³ The Commission received four comment letters on the proposed rule change.⁴

¹ 15 U.S.C. 78s(b)(1).

² 17 CFR 240.19b-4.

³ See Securities Exchange Act Release No. 65015 (August 2, 2011), 76 FR 48197.

⁴ See letters to Elizabeth M. Murphy, Secretary, Commission, from Colette J. Irwin-Knott, CIPFA, President, National Association of Independent Public Finance Advisors, dated September 6, 2011; Michael Nicholas, CEO, Bond Dealers of America, dated August 29, 2011; and Michael Decker, Managing Director and Co-Head of Municipal Securities, Securities Industry and Financial Markets Association, dated August 29, 2011; and letter from Joy A. Howard, Principal, WM Financial Strategies, dated August 26, 2011.

On September 9, 2011, the MSRB withdrew the proposed rule change (SR-MSRB-2011-08).⁵

⁵ See MSRB Notice 2011-51 (September 12, 2011).

⁶ 17 CFR 200.30-3(a)(12).

For the Commission, by the Division of Trading and Markets, pursuant to delegated authority.⁶
Elizabeth M. Murphy,
Secretary.

[FR Doc. 2011-25190 Filed 9-29-11; 8:45 am]

BILLING CODE 8011-01-P